FEDERAL COMMUNICATIONS COMMISSION

47 CFR Parts 52 and 64

[CG Docket No. 03-123 and WC Docket No. 05-196; DA 08-2130]

Consumer and Governmental Affairs Bureau Modifies Cost Submission Timeframes Associated With Implementation of the Numbering System for Internet-Based Telecommunications Relay Services (TRS)

AGENCY: Federal Communications Commission.

ACTION: Final rule.

SUMMARY: In this document, the Consumer and Governmental Affairs Bureau (Bureau) modifies the filing timeframes in which Video Relay Service (VRS) and Internet Protocol (IP) Relay providers requesting compensation from the Interstate TRS Fund (Fund) must submit their initial filing for costs associated with implementation of the numbering system for Internet-based TRS.

DATES: Initial filing deadline is January 30, 2009.

FOR FURTHER INFORMATION CONTACT: Thomas Chandler, Consumer and Governmental Affairs Bureau, Disability Rights Office at (202) 418-1475 (voice), (202) 418-0597 (TTY), or e-mail at Thomas.Chandler@fcc.gov.

SUPPLEMENTARY INFORMATION: This is a summary of the Bureau's document DA 08-2130, released September 22, 2008 in CG Docket No. 03-123 and WC Docket No. 05-196. The full text of document DA 08-2130 will be available for public inspection and copying during regular business hours at the FCC Reference Information Center, Portals II, 445 12th Street, SW., Room CY-A257, Washington, DC 20554. Document DA 08-2130 and copies of subsequently filed documents in this matter may also be purchased from the Commission's duplicating contractor at Portals II, 445 12th Street, SW., Room CY-B402, Washington, DC 20554. Customers may contact the Commission's duplicating contractor at its Web site, http://www.bcpiweb.com, or by calling 1-800-378-3160. To request materials in accessible formats for people with disabilities (Braille, large print, electronic files, audio format), send an e-mail to fcc504@fcc.gov or call the Consumer and Governmental Affairs Bureau at (202) 418-0530 (voice) or (202) 418-0432 (TTY). Document DA 08-2130 also can be downloaded in Word or Portable Document Format (PDF) at: http://www.fcc.gov/cgb/dro/trs.html#orders.

Synopsis

On June 24, 2008, the Commission released Telecommunications Relay Services and Speech-to-Speech Services for Individuals with Hearing and Speech Disabilities; E911 Requirements for IP-Enabled Service Providers, CG Docket No. 03-123, WC Docket No. 05-196, Report and Order and Further Notice of Proposed Rulemaking, 23 FCC Rcd 11591 (Numbering Order), published at 73 FR 41286, July 18, 2008 and 73 FR 41307, July 18, 2008. In document DA 08-2130, the Bureau modifies the filing timeframes in which VRS and IP Relay providers requesting compensation from the Fund must submit their initial filing for costs associated with implementing the requirements of the June 24, 2008 Numbering Order. Specifically, VRS and IP Relay providers must submit their initial filings by January 30, 2009, for the period of June 24, 2008 through December 31, 2008. Further, VRS and IP Relay providers subsequently must submit costs 30 days after the end of each calendar quarter for costs incurred during the preceding quarter.

In the Numbering Order, the Commission adopted a system for assigning users of Internet-based TRS, specifically VRS and IP Relay, ten-digit telephone numbers linked to the North American Numbering Plan. In so doing, the Commission also determined that VRS and IP Relay providers could be compensated for their costs of implementing the mandates of the Numbering Order. The Commission noted that although VRS and IP Relay providers presently are compensated based on a per-minute rate calculated pursuant to the Commission's rules, the providers' additional costs necessary to implement the numbering and emergency call handling requirements have not been factored into the present compensation rates. The Commission therefore concluded that it would “compensate these costs separately from the other costs presently encompassed by the per-minute compensation rates.” The Commission directed that VRS and IP Relay providers seeking compensation for their actual reasonable costs of complying with the new requirements in the Numbering Order submit to the Fund administrator (currently, the National Exchange Carrier Association) reasonably detailed explanations of those costs. The Commission further directed that those costs be submitted to the Fund administrator every three months, beginning three months after the release date of the Numbering Order, for the costs actually incurred during the prior three-month period. By these terms of the Numbering Order, which was released on June 24, 2008, the initial submission of those costs would be due September 24, 2008.

In order to allow sufficient time for providers to prepare their filings upon the close of the cost reporting period, the Bureau recognizes that it is appropriate to afford providers additional time to report their costs. Accordingly, and in order to ensure that providers' filings include costs that are incurred up to and including the final date of the reporting period, the Bureau modifies the reporting timeframes to allow providers an additional 30 days to file their costs after the end of a reporting period. In addition, for administrative convenience, the Bureau conforms the three-month reporting periods to calendar quarters. Finally, because these cost submissions constitute new information collections subject to the Paperwork Reduction Act of 1995 (PRA), Public Law 104-13, this requirement cannot go into effect until the Office of Management and Budget approves the collections under the PRA and the Commission publishes a notice in the Federal Register announcing such approval and the relevant effective date(s). In order to afford time for the Commission to receive and publish PRA approval to be received and announced, the Bureau extends the initial filing deadline until January 30, 2009. In other words, the first cost submissions to the Fund administrator must be filed by January 30, 2009, and will cover the period from the release date of the Numbering Order, June 24, 2008, through December 31, 2008. Subsequent reports will be due 30 days after the close of each calendar quarter.

To illustrate, the first few subsequent reporting periods and filing due dates will be as follows:

January 1, 2009, through March 31, 2009: Cost submission due April 30, 2009.

April 1, 2009, through June 30, 209: Cost submission due July 30, 2009.

July 1, 2009, through September 30, 2009: Cost submission due October 30, 2009.

October 1, 2009, through December 31, 2009: Cost submission due January 30, 2010.

Federal Communications Commission.
Nicole McGinnis,
Deputy Chief, Consumer and Governmental Affairs Bureau.

[FR Doc. E8-24006 Filed 10-9-08; 8:45 am]

BILLING CODE 6712-01-P